DEPARTMENT OF TRANSPORTATION

Federal Aviation Administration

[Docket No.: FAA-2022-0124; Summary Notice No. -2023-19]

Petition for Exemption; Summary of Petition Received; Phoenix Air Unmanned, LLC

AGENCY: Federal Aviation Administration (FAA), Department of Transportation (DOT).

ACTION: Notice.

SUMMARY: This notice contains a summary of a petition seeking relief from specified requirements of Federal Aviation regulations. The purpose of this notice is to improve the public's awareness of, and participation in, the FAA's exemption process. Neither publication of this notice nor the inclusion nor omission of information in the summary is intended to affect the legal status of the petition or its final disposition.

DATES: Comments on this petition must identify the petition docket number and must be received on or before June 14, 2023.

ADDRESSES: Send comments identified by docket number FAA-2022-0124 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Dan Ngo, 202-267-9677, Office of Rulemaking, Federal Aviation Administration, 800 Independence Avenue SW, Washington, DC 20591.

This notice is published pursuant to 14 CFR 11.85.

Issued in Washington, DC, on May 18, 2023.
Brandon Roberts,
Executive Director, Office of Rulemaking.

Petition for Exemption

Docket No.: FAA-2022-0124.

Petitioner: Phoenix Air Unmanned, LLC.

Section(s) of 14 CFR Affected: §§ 61.3(a)(1)(i), 61.23(a)(2), 89.105, 91.119(c), 91.121, 91.151(b), 91.403(b), 91.405(a), 91.407(a)(1), 91.409(a)(1), 91.409(a)(2), 91.417(a), and 91.417(b).

Description of Relief Sought: Phoenix Air Unmanned, LLC (PAU) seeks relief to operate the SwissDrones SVO 50 V2 Unmanned Aircraft System (UAS) for the purposes of linear infrastructure operations, including aerial work, aerial photography, survey, and powerline and pipeline patrol and inspection. These operations include beyond visual line of sight (BVLOS) operations over certain roads and transient operations over people within the right of way (ROW). Operations that do not meet the criteria for BVLOS due to population density, roadway congestion, proximity to airports, and/or airspace may still be flown within VLOS of the PIC with certain restrictions. Moreover, PAU requests relief to the remote identification of unmanned aircraft regulation until the time that the manufacturer's equipment is available.

[FR Doc. 2023-11027 Filed 5-23-23; 11:15 am]

BILLING CODE 4910-13-P